FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 11, 2020.

A. Federal Reserve Bank of Minneapolis (Chris P. Wangen, Assistant Vice President), 90 Hennepin Avenue, Minneapolis, Minnesota 55480-0291:

1. The Bank Holding Company Stock Trust Agreement of Steven R. Krause and Rebecca R. Krause, Steven R. Krause and Rebecca R. Krause as co- trustees, and Andrew Krause, all of Winnebago, Minnesota; Erin Church, Canistota, South Dakota; and Emily Sebesta, Willmar, Minnesota; as members of the Krause Family Shareholder Group acting in concert to retain voting shares of Krause Financial, Inc., and thereby indirectly retain voting shares of First Financial Bank in Winnebago, both of Winnebago, Minnesota.

B. Federal Reserve Bank of San Francisco (Sebastian Astrada, Director, Applications) 101 Market Street, San Francisco, California 94105-1579:

1. Megan F. Clubb and Clifford “Kip” W. Kontos, both of Walla Walla, Washington, and Charles H. Eglin, Yakima, Washington; as a group acting in concert to acquire voting shares of Baker Boyer Bancorp and thereby indirectly acquire Baker Boyer National Bank, both of Walla Walla, Washington.

Board of Governors of the Federal Reserve System, May 22, 2020.
Yao-Chin Chao,
Assistant Secretary of the Board.

[FR Doc. 2020-11481 Filed 5-27-20; 8:45 am]

BILLING CODE P